DEPARTMENT OF ENERGY

Federal Energy Regulatory Commission

[Project No. 2150-027]

Puget Sound Energy, Inc.; Notice Granting Intervention and Granting Late Intervention

January 7, 2005.

1. On August 14, 2002, the Commission issued notice of an application for amendment of license, filed by Puget Sound Energy, Inc. (Puget), for the Baker River Project No. 2150. The project is located on the Baker River in Skagit and Whatcom Counties, Washington. The notice established September 13, 2002, as the deadline for filing motions to intervene in the proceeding.

2. Timely motions to intervene were filed by the Skagit System Cooperative, National Marine Fisheries Service, U.S. Department of the Interior, U.S. Department of Agriculture, Washington Department of Fish and Wildlife, City of Seattle, and American Rivers and Washington Trout (jointly). On September 27, 2002, Puget filed an answer opposing the motion filed by American Rivers and Washington Trout, and objecting to certain aspects of some of the other motions. On April 2, 2004, Skagit County, Washington, filed a motion for late intervention in this proceeding. On April 19, 2004, Puget filed an answer in opposition to the motion.

3. Granting the motions to intervene will not unduly delay or disrupt the proceeding or prejudice other parties to it. Therefore, pursuant to Rule 214, 18 CFR 385.214 (2004), all timely motions to intervene filed in this amendment proceeding are granted, and the motion for late intervention filed by Skagit County is granted, subject to the Commission's rules and regulations.

Magalie R. Salas,
Secretary.

[FR Doc. E5-140 Filed 1-13-05; 8:45 am]

BILLING CODE 6717-01-P